SOCIAL SECURITY ADMINISTRATION

Agency Information Collection Activities; Comment Request

The Social Security Administration (SSA) publishes a list of information collection packages requiring clearance by the Office of Management and Budget (OMB) in compliance with Public Law (Pub. L.) 104-13, the Paperwork Reduction Act of 1995, effective October 1, 1995. This notice includes revisions to OMB-approved information collections and extensions (no change) of OMB-approved information collections.

SSA is soliciting comments on the accuracy of the Agency's burden estimate; the need for the information; its practical utility; ways to enhance its quality, utility and clarity; and how to minimize the burden on respondents, including the use of automated collection techniques or other forms of information technology. Mail, e-mail or fax your comments and recommendations on the information collection(s) to the OMB Desk Officer and the SSA Reports Clearance Officer to the addresses or fax numbers listed below.

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

SSA has submitted the information collections listed below. Your comments on the information collections will be most useful if OMB and SSA receive them within 30 days from the date of this publication. You can request a copy of the information collections by e-mail, OPLM.RCO@ssa.gov, fax 410-965-6400, or by calling the SSA Reports Clearance Officer at 410-965-0454.

1. Social Security Number Verification Services—20 CFR 401.45—0960-0660. Under Internal Revenue Service regulations, employers are obligated to provide wage and tax data to SSA using Form W-2 or its electronic equivalent. As part of this process, the employer must furnish the employee's name and Social Security number (SSN). The employee's name and SSN must match SSA's records for the employee's earnings to be posted properly to their Earnings Record, which SSA maintains.

To assure employers provide accurate name and SSN data that match SSA's records, SSA offers several cost-free methods for employers to verify the information as follows: (1) Internet-based service, known as the Social Security Number Verification Service (SSNVS), where the employer can verify if the reported names and SSNs of their employees match SSA's records; (2) the Employee Verification Service (EVS), where, after registering (a one-time process), employers can verify, via paper and telephone if the reported name and SSN of their employees matches SSA's records; (3) through SSA's National 800 Number, using a new automated telephone employee verification service (TNEV) that allows authenticated callers, who have a pin and password for this process, to verify employee names and SSNs.

Type of Request: Revision of an OMB-approved information collection.

Verification system | Number of respondents | Frequency of response | Number of responses | Average burden per response (minutes) | Total annual burden (hours)
EVS | 50,000 | 16 | 800,000 | 10 | 133,333
EVS One-Time Registration | 50 | 1 | 50 | 2 | 2
SSNVS | 200,000 | 60 | 12,000,000 | 5 | 1,000,000
TNEV | 5,798 | 60 | 347,880 | 9 | 52,182
Totals | 255,848 |  | 13,147,930 |  | 1,185,517

2. Cessation or Continuance of Disability or Blindness Determination and Transmittal—20 CFR 404.1512, 404.1588-1599, 404.1615—0960-0442. SSA uses the information collected on the SSA-833-C3/U3 to determine whether individuals receiving Title II disability benefits continue to be unable to engage in substantial gainful activity and are still eligible to receive benefits. The respondents are State Disability Determination Services employees.

Type of Request: Extension of an OMB-approved information collection.

Number of Respondents: 190,507.

Frequency of Response: 1.

Average Burden per Response: 30 minutes.

Estimated Annual Burden: 95,254 hours.

3. Continuing Disability Review Report—20 CFR 404.1589, 416.989—0960-0072. SSA uses the information collected on Form SSA-454-BK to determine whether an individual who receives Social Security disability benefits continues to be disabled. The SSA-454-BK updates the record of the disabled individual, providing information on recent medical treatment, vocational and educational experience, work activity, and evaluations of work potential for adults. It also collects information on the ability of Title XVI children to function without marked and severe limitations. Based on the responses provided, SSA obtains medical and other evidence to determine whether disability, as defined by the Social Security Act, continues or has ended, and, if so, when the disability ended. SSA conducts a continuing disability review (CDR) when a disabled individual's medical reexamination diary matures, or when SSA receives a report of medical improvement. The number of CDRs done each fiscal year depends on the number of maturing diaries, reports of medical improvement and SSA budget constraints. The respondents are recipients of benefits based on disability under Title II and/or Title XVI of the Social Security Act.

Type of Request: Revision of an OMB-approved information collection.

Number of Respondents: 398,000.

Frequency of Response: 1.

Average Burden per Response: 60 minutes.

Estimated Annual Burden: 398,000 hours.

4. Information Collections conducted by State DDSs on Behalf of SSA—20 CFR, subpart P, 404.1503a, 404.1512, 404.1513, 404.1514 404.1517, 404.1519; 20 CFR subpart Q, 404.1613, 404.1614, 404.1624; 20 CFR subpart I, 416.903a, 416.912, 416.913, 416.914, 416.917, 416.919 and 20 CFR subpart J, 416.1013, 416.1024, 416.1014—0960-0555. The State Disability Determination Services (DDSs) collect certain information to administer the Social Security Disability Insurance (SSDI) and Supplemental Security Income (SSI) programs. They collect consultative examination (CE) medical evidence, CE credentials and Medical Evidence of Record (MER) from medical sources. The DDSs collect information from claimants regarding medical appointments and pain/symptoms. The respondents are medical providers, other sources of MER and disability claimants.

Type of Request: Revision of an OMB-approved information collection.

The total combined burden is 1,803,810 hours.

CE Collections

There are two collections from CE providers: (a) medical evidence about claimants, which DDSs use to make disability determinations when the claimant's own medical sources cannot or will not provide the required information; and (b) when CE providers offer proof of their credentials.

(a) Medical Evidence From CE Providers

| Number of respondents | Frequency of response | Average burden per response (minutes) | Estimated annual burden (hours)
Paper Submissions | 1,215,000 | 1 | 30 | 607,500
Electronic Records Express (ERE) Submissions | 285,000 | 1 | 15 | 71,250
Totals | 1,500,000 | — | — | 678,750

(b) CE Credentials

| Number of respondents | Frequency of response | Average burden per response (minutes) | Estimated annual burden (hours)
Paper Submission | 3,000 | 1 | 20 | 1,000

There are two CE claimant collections: (a) CE claimant completion of a response form in which claimants indicate if they intend to keep their CE appointment; and (b) CE claimant completion of a form indicating whether they want a copy of the CE report sent to their doctor.

(a) Claimants re Appointment Letter

| Number of respondents | Frequency of response | Average burden per response (minutes) | Estimated annual burden (hours)
Paper Submission | 750,000 | 1 | 5 | 62,500

(b) Claimants re Report to Medical Provider

| Number of respondents | Frequency of response | Average burden per response (minutes) | Estimated annual burden (hours)
Paper Submission | 1,500,000 | 1 | 5 | 125,000

MER Collections

The DDSs collect MER from the claimant's medical sources to determine a claimant's physical and/or mental status, prior to making a disability determination.

| Number of respondents | Frequency of response | Average burden per response (minutes) | Estimated annual burden (hours)
Paper Submissions | 2,480,800 | 1 | 15 | 620,200
Connect Direct (CD), (electronic transfer) | 218,400 | 1 | 15 | 54,600
ERE | 100,800 | 1 | 7 | 11,760
Submission |  |  |  |
Total | 2,800,000 | — | — | 686,560

Pain/Other Symptoms Information from Claimants

The DDSs use information about pain/symptoms to determine how pain/symptoms affect the claimant's ability to do work-related activities, prior to making a disability determination.

| Number of respondents | Frequency of response | Average burden per response (minutes) | Estimated annual burden (hours)
Paper Submission | 1,000,000 | 1 | 15 | 250,000

5. Function Report—Adult—Third Party—20 CFR 404.1512, 416.912—0960-0635. SSA needs the information collected on the SSA-3380-BK to make determinations on SSI and SSDI claims. This information is necessary for case development and adjudication, and DDS evaluators use it as an evidentiary source in the disability evaluation process. The respondents are third parties familiar with the functional limitations (or lack thereof) of claimants who apply for SSDI benefits and SSI payments.

Type of Request: Revision of an OMB-approved information collection.

Number of Respondents: 1,000,000.

Frequency of Response: 1.

Average Burden per Response: 60 minutes.

Estimated Annual Burden: 1,000,000 hours.

6. Function Report—Adult—20 CFR 404.1512 and 419.912—0960-0681. SSA uses Form SSA-3373 to collect information about a disability applicant's impairment-related limitations and ability to function. It documents the types of information specified in SSA regulations and provides disability interviewers with a convenient means to record information about how the claimant's condition affects his or her ability to function. This information, together with medical evidence, forms the evidentiary basis for the initial disability process. The respondents are SSDI and SSI applicants.

Type of Request: Revision to an OMB-approved information collection.

Number of Respondents: 4,005,367.

Frequency of Response: 1.

Average Burden per Response: 60 minutes.

Estimated Annual Burden: 4,005,367 hours.

Dated: April 14, 2008.
Elizabeth A. Davidson,
Reports Clearance Officer, Social Security Administration.

[FR Doc. E8-8358 Filed 4-18-08; 8:45 am]

BILLING CODE 4191-02-P